DEPARTMENT OF LABOR

Office of the Secretary

Submission for OMB Review: Comment Request

April 8, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Revision of a currently approved collection.

Title: Report on Current Employment Statistics.

OMB Number: 1220-0011.

Form Number: BLS-790 Series.

Type of Response: Reporting.

Affected Public: Business or other for-profit; Not-for-profit institutions; Federal Government; and State, local, or tribal government.

Form | Number of respondents | Minutes per report | Frequency of response | Annual responses | Annual burden hours
BLS-790A—Natural Resources and Mining | 1,400 | 10 | Monthly | 16,800 | 2,800
BLS-790B—Construction | 12,800 | 10 | Monthly | 153,600 | 25,600
BLS-790C—Manufacturing | 18,000 | 10 | Monthly | 216,000 | 36,000
BLS-790E—Service Providing Industries | 153,300 | 10 | Monthly | 1,839,600 | 306,600
BLS-790G—Public Administration | 56,700 | 5 | Monthly | 680,400 | 56,700
BLS-790S—Education | 4,000 | 5 | Monthly | 48,000 | 4,000
BLS-790F1, F2, F3 (Fax Forms) | 36,400 | 10 | Monthly | 436,800 | 72,800
Total | 282,600 |  |  | 3,391,200 | 504,500

Total Annualized capital/startup costs: $0.

Total Annual Costs (operating/maintaining systems or purchasing services): $0.

Description: The Current Employment Statistics program provides current monthly statistics on employment, hours, and earnings, by industry. CES data on employment, hours, and earning by industry are among the most visible and widely-used Principal Federal Economic Indicators (PFEIs). CES data are also the timeliest of all PFEIs, with their release by BLS in the Employment Situation on the first Friday of most months. The statistics are fundamental inputs in economic decision processes at all levels of government, private enterprise, and organized labor.

Proposed Changes to the Current Employment Statistics Survey: The Bureau of Labor Statistics (BLS) is planning several changes to the Current Employment Statistics (CES) survey to improve its relevance to the needs of primary data users, as well as its value as an input to other key economic statistics. To implement the needed changes while maintaining the viability of the CES program as a high volume, quick turnaround, voluntary survey, BLS carefully reviewed the public's use of CES data to determine if reductions could be made in some series as a tradeoff for significant data improvements. The reductions help to maintain the viability of the CES survey by keeping the survey form at one-page in length and the number of data items requested of employers to a minimum.

Planned Changes

The planned improvements to the CES are:

New data on the hours and regular earnings of all employees.

New data on total earnings—both regular and irregular pay—for all employees.

The CES series that BLS proposes to discontinue to accommodate the above improvements are:

Women worker employment series.

Production or nonsupervisory worker hours and earnings series.

A brief discussion of the benefits of the planned improvements and the reasons for discontinuing the CES women and production and nonsupervisory workers series follows.

Discontinuation of CES women workers series—The CES plans to discontinue the collection and publication of data on women workers with the release of May 2005 data scheduled for publication in July 2005. The Bureau has three reasons for proposing to drop the CES women workers series.

The first is that the series imposes a significant reporting burden on survey respondents because payroll records do not typically include gender identification. BLS relies upon the voluntary cooperation of approximately 155,000 businesses each month (representing about 400,000 individual worksites) in providing information from their payroll records on the employment, hours, and earnings of their workers. In an increasingly difficult data-collection environment, survey response burden is a crucial factor in survey design.

Second, the CES women workers series are little used. Recent BLS analysis of information from its public use website found that while there was an average of 130,000 requests per month for CES national estimates, only about one-half of one percent of those requests were for the women worker employment series. Additionally, an informal internet literature search by BLS found almost no usage of CES women worker series. Articles which addressed women's employment and earnings issues nearly all used data from the BLS Current Population Survey (CPS) as their source.

Third, BLS will continue to provide extensive labor market information on women, primarily from the CPS, a monthly survey of about 60,000 households. From the CPS, users have access to data on women's employment, unemployment, and earnings by industry, occupation, education, age, marital status, and other characteristics.

BLS routinely publishes information in various formats on women in the workplace. CPS data on women, for instance, are summarized in two recurring publications:

Women in the Labor Force: A Databook

http://www.bls.gov/cps/wlf-databook.pdf.

Highlights of Women's Earnings

http://www.bls.gov/cps/cpswom2003.pdf.

Examples of regularly-issued CPS-based news releases that include data on women are:

Usual Weekly Earnings of Wage and Salary Workers

http://www.bls.gov/news.release/pdf/wkyeng.pdf.

Employment Characteristics of Families

http://www.bls.gov/news.release/pdf/famee.pdf.

College Enrollment and Work Activities of High School Graduates

http://www.bls.gov/news.release/pdf/hsgec.pdf.

Beginning with the release of January 2005 data, Current Population Survey data on employed women by industry is available monthly in Table A-23 of the BLS periodical Employment and Earnings. The new table is available on the BLS Web site at ftp://ftp.bls.gov/pub/suppl/empsit.cpseea23.txt, and shows essentially the same industry detail as that shown in Table B-13, the table that currently provides the establishment data on women. Table A-23 will be available on the BLS Web site each month coincident with the publication of the Employment Situation news release.

New data on all employee hours and earnings series—The CES program currently publishes series on the average hours and earnings of production workers in the goods-producing industries and non-supervisory workers in the service-providing industries. Production and non-supervisory workers account for about 80 percent of all employment measured by the CES survey. The new all employee hours and earnings series will cover all workers and therefore provide more comprehensive information than the present series for analyzing economic trends. They will also provide improved input for other major economic indicators, including series on nonfarm productivity and personal income. BLS has tested the collection of all employee hours and earnings data with CES respondents and found the data to be available from the payroll records of most employers. The CES survey will begin collecting all employee payroll and hours data in mid-2005. Publication of the first all employee hours and earnings series, on an experimental basis, is scheduled for mid-2006. Publication of official published series is scheduled for early 2007.

New data on gross monthly earnings—This series will have a broader scope than the base CES earnings data. The current CES average hourly and weekly earnings series for production and non-supervisory workers, as well as the new series planned for all employees are designed to measure the regular earnings of workers; they exclude bonuses and other irregular payments received by employees from their employers. The gross monthly earnings series will include these irregular payments providing an additional and more comprehensive measure of earnings. The base average hourly earnings series will continue to provide a measure of underlying wage trends exclusive of irregular payments. The gross monthly earnings series is expected to be particularly valuable for improving the accuracy of preliminary estimates of personal income in the national income accounts. Pilot tests with CES survey respondents indicate that most will be able to readily provide this information from their payroll records. The CES survey will begin collecting gross monthly earnings data in mid-2005. Publication of the first gross monthly earnings, on an experimental basis, is scheduled for mid-2006. Publication of official published series is scheduled for early 2007.

Discontinuation of production/non-supervisory worker hours and earnings series—These series will be phased out after the new all employee hours and earnings series are well established. The production/non-supervisory worker series limited scope makes them of limited value in analyzing economic trends. Just as important to this decision, the production and non-supervisory worker hours and payroll data have become increasingly difficult to collect, because these categorizations are not meaningful to survey respondents. Many survey respondents report that it is not possible to tabulate their payroll records based on the production/non-supervisory definitions. Discontinuation of the production/non-supervisory worker hours and earnings series is scheduled for early 2010.

Public Comment

In accordance with the requirements of the Paperwork Reduction Act of 1995, BLS posted a notice describing these planned changes in the Federal Register on December 22, 2004 [http://a257.g.akamaitech.net/7/257/2422/06jun20041800/edocket.access.gpo.gov/2004/E4-3731.htm]. The 60-day public comment period for this Federal Register notice ended on February 22, 2005.

Comments Received Following the First Federal Register Notice and BLS Response

Extensive comments were received as a result of the pre-clearance consultation Federal Register notice, Volume 69, Number 245, published on December 22, 2004.

1. A few commenters supported the BLS plan for Current Employment Statistics (CES) program changes, including former BLS Commissioner Katharine Abraham and the Bureau of Economic Analysis. Supporters of the plan voiced a common opinion, as expressed by Dr. Abraham: “The positive reason for dropping the women worker question is to make room on the CES survey instrument for the new all-employee questions the BLS has proposed. The lack of timely information on all-employee earnings has been a long-standing problem for the Bureau of Economic Analysis in its construction of the national income and product accounts and the lack of information on all employee hours is a potential source of bias in BLS estimates of the rate of growth in productivity. Because the survey sample is so large and because responses must be collected within a very short timeframe, it is not feasible to collect more than a small number of elements on the CES survey.”

2. A small number of the comments received expressed concern about the loss of production worker hours and earnings series, believing it should continue to be published in addition to the proposed all employee hours and earnings data. BLS is planning a multi-year overlap period (July 2006-December 2009) when both all employee and production worker hours and earnings series will be published. We will reassess our plans to drop the production worker hours and earnings series about a year before the planned discontinuation date, drawing on the experience of data users and survey respondents during the overlap period before making a final decision.

3. The majority of comments objected to the planned discontinuation of the women worker employment series, but many appeared to be based on a misunderstanding of the CES data. They referenced the presumed loss of data on women's earnings, occupations, or other information that have in fact never been available from the CES program. In all likelihood, the commenters were confusing the CES with the Current Population Survey (CPS) or household survey. The household survey does provide data on earnings, occupations, and other labor force characteristics by gender. Collection of all this data through the CPS will continue.

Following are additional specific comments regarding the planned discontinuation of CES women worker series. The comments are grouped by the three reasons BLS has cited for proposing to discontinue the series.

Use of CES Women Worker Series

4. A number of commenters indicated that CES women worker data were widely used by researchers. BLS reviewed all of the articles cited by commenters as well as conducting our own informal internet search for research on women's employment issues. Of the scores of articles on this topic, only 6 articles (covering a 20-year span) were found that contained any CES women worker data; these papers all used additional data sources in conjunction with the CES information.

5. A number of comments indicated that the CES data on women workers were necessary to formulate public policy for working women and to track women's progress in the workplace. However, without information on occupation, hours, or earnings by gender, the CES provides relatively little information for these purposes. The CPS provides much more information on the employment and labor force characteristics of women and thus is more useful for formulating policy or evaluating women's progress.

CPS Data on Women as a Substitute for CES Data on Women

(Note the italicized comments included below are drawn verbatim from a form letter used by the majority of commenters.)

6. With a gender breakdown, the payroll survey is capable of painting a reliable picture of where women are working across industries and business cycles. Without a gender breakdown, that picture becomes far more difficult to obtain. While the CPS is valuable for other types of information, its smaller sampling size produces a greater margin for error than the CES survey. It is true that CPS data are subject to larger sampling error than the CES estimates owing to the smaller sample size of the CPS. However, because the CPS provides many more characteristics for women workers, it is an overall richer source of data for women workers than the CES. In addition, while we have publicly stated that the CES is superior to the CPS for analyzing month-to-month trends, we believe that such short term measures are not appropriate for most assessments of the changing status of women (or any demographic group) in the labor market. When examining longer term trends, the advantage the CES has in sample size declines in importance. The two surveys have displayed similar trends for women's employment growth over the past several years.

7. The CPS' reliance on household interviews introduces the possibility of subjective reporting bias that does not exist with the payroll survey. All surveys are potentially subject to non-sampling errors or biases of various types. While we have no quantitative measures of the degree of non-sampling error in the household versus the payroll survey, it is likely that the payroll survey provides better industry coding than the household survey because the codes originate from businesses.

8. The CPS historical time series of employment by industry is not seasonally adjusted and not as long as the CES employment by industry time series. The CPS North American Industry Classification System (NAICS)-based time series begins in 2000. The CES NAICS-based time series begins in 1964. As part of the conversion to NAICS, CPS industry data for 2000 through 2002 were re-coded using the new industry classification system. BLS provided this re-coded information to the public via microdata files and its website. This information could be used by researchers to reconstruct the CPS series for earlier time periods. Additionally, the large amount of research on women's issues that uses the CPS data suggests that the lack of seasonal adjustment of the CPS industry series is not a major liability.

The Respondent Burden of CES Women Workers Data

9. Some commenters indicated that reporting employment data for women is not an added burden for businesses, because they are already subject to EEO reporting requirements. While it is true that most large firms are required to comply with EEO by submitting an employer information report (EEO-1), this is a once-a-year report while the CES is a monthly report. Additionally, the individuals who complete the CES report often indicate that gender information is not present on their standard payroll records and that they do not have ready access to the data. As evidence of respondent burden, out of every six employers who provide total employment counts, one does not provide the additional data on female employment.

10. Some respondents indicated that hours and earnings for women along with other demographic information should be added to the CES survey. Others questioned whether the BLS rationale of eliminating women worker collection to make room for other data items of more interest was necessary.

The CES is a large survey (400,000 worksites) which operates under very tight time constraints (data are published each month, only three weeks after the reference period); it relies on voluntary self-reporting from most of its sample members. Because of this demanding production environment, BLS believes that it is important to minimize the number of data items collected and to request data that are readily available on payroll records. These measures help minimize respondent burden and therefore maximize the number of surveyed businesses that are willing and able to supply data. Maximizing the number of survey responses is important to ensuring reliable estimates. The CES estimates of nonfarm employment which appear in the BLS Employment Situation news release are among the nation's most visible and sensitive economic indicators. BLS needs to ensure that the reliability of these estimates is not jeopardized by overloading the survey.

11. Some commenters indicated that the CES survey was mandatory, thus there should be no problem in collecting any type of data. Others suggested that because the survey was voluntary, it did not generate a respondent burden, because businesses were free to refuse.

The CES survey is mandatory by State law in five States (California, Oregon, North Carolina, South Carolina, and Washington). In all other States the CES survey is voluntary. It is precisely because of the largely voluntary nature of the survey that BLS must minimize the reporting burden to businesses. If the survey is perceived as too time consuming or burdensome, a high refusal rate may result, which would decrease the accuracy of the published estimates.

Ira L. Mills,
Departmental Clearance Officer.

[FR Doc. 05-7689 Filed 4-15-05; 8:45 am]

BILLING CODE 4510-24-P